DEPARTMENT OF TRANSPORTATION

Federal Aviation Administration

14 CFR Part 39

[Docket No. FAA-2017-0556; Product Identifier 2016-NM-098-AD; Amendment 39-19119; AD 2017-25-05]

RIN 2120-AA64

Airworthiness Directives; Airbus Airplanes

AGENCY: Federal Aviation Administration (FAA), Department of Transportation (DOT).

ACTION: Final rule.

SUMMARY: We are superseding Airworthiness Directive (AD) 2012-23-10, which applied to all Airbus Model A318 series airplanes; Model A319 series airplanes; Model A320-211, -212, -214, -231, -232, and -233 airplanes; and Model A321-111, -112, -131, -211, -212, -213, -231, and -232 airplanes. AD 2012-23-10 required modifying the affected slide rafts. This AD retains the requirements of AD 2012-23-10. This AD also requires replacing each escape slide pack assembly having a certain part number with a new escape slide pack assembly. This AD was prompted by reports of the escape raft inflation system not deploying when activated due to the rotation of the cable guide in a direction that resulted in jamming of the inflation control cable. We are issuing this AD to address the unsafe condition on these products.

DATES: This AD is effective January 16, 2018.

The Director of the Federal Register approved the incorporation by reference of certain publications listed in this AD as of January 16, 2018.

The Director of the Federal Register approved the incorporation by reference of certain other publications listed in this AD as of December 31, 2012 (77 FR 70369, November 26, 2012).

ADDRESSES: For Airbus service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. For Zodiac Aerospace service information identified in this AD, contact Air Cruisers, Cage Code 70167, 1747 State Route 34, Wall Township, NJ 07727-3935; telephone: (732) 681-3527; Internet: http://www.zodiacaerospace.com. You may view this referenced service information at the FAA, Transport Standards Branch, 1601 Lind Avenue SW., Renton, WA. For information on the availability of this material at the FAA, call 425-227-1221. It is also available on the Internet at http://www.regulations.gov by searching for and locating Docket No. FAA-2017-0556.

Examining the AD Docket

You may examine the AD docket on the Internet at http://www.regulations.gov by searching for and locating Docket No. FAA 2017-0556; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Section, Transport Standards Branch, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2012-23-10, Amendment 39-17266 (77 FR 70369, November 26, 2012) (“AD 2012-23-10”). AD 2012-23-10 applied to all Airbus Model A318 series airplanes; Model A319 series airplanes; Model A320-211, -212, -214, -231, -232, and -233 airplanes; and Model A321-111, -112, -131, -211, -212, -213, -231, and -232 airplanes. The NPRM published in the Federal Register on June 23, 2017 (82 FR 28599). The NPRM was prompted by reports of the escape raft inflation system not deploying when activated due to the rotation of the cable guide in a direction that resulted in jamming of the inflation control cable.

The European Aviation Safety Agency (EASA), which is the Technical Agent for the Member States of the European Union, has issued EASA AD 2016-0043, dated March 4, 2016 (referred to after this as the Mandatory Continuing Airworthiness Information, or “the MCAI”), to correct an unsafe condition for all Airbus Model A318, A319, A320, and A321 series airplanes. The MCAI states:

Two occurrences were reported on Airbus A320 family aeroplanes where the escape slide raft inflation system did not deploy when activated. This was due to the rotation of the cable guide in a direction, which resulted in jamming of the inflation control cable. Additionally, one case was reported where the system did not deploy properly due to a cracked inflation hose fitting. Investigation conducted by Air Cruisers Company [Zodiac Aero Evacuation Systems], the slide raft manufacturer, showed that the hose fitting could be subject to a bending moment, if improperly packed. Consequently, the hose fitting could separate from the reservoir and the inflation of the slide raft would be impaired.

This condition, if not corrected, could delay the evacuation from the aeroplane in case of emergency, possibly resulting in injury to the occupants.

To address this potential unsafe condition, DGAC France issued AD F-2004-072 [which correlates with FAA AD 2004-26-07, Amendment 39-13919 (70 FR 1176, January 6, 2005)], to introduce an inflation hose retainer preventing an incomplete inflation of emergency escape slides, which could delay passenger evacuation, and EASA issued AD 2011-0160 (later revised twice) to require modification of the affected slide rafts or replacement thereof with modified units.

Since EASA AD 2011-0160R2 [which correlates with FAA AD 2012-23-10 and was issued as a stand-alone, non-superseding AD] was issued, Air Cruisers [Zodiac Aero Evacuation Systems] developed a modification of the slide and slide/raft, part of the escape slide pack assemblies, to improve its deployment. Modified slides and slide/rafts are identified by a different Part Number (P/N); consequently, also the escape slide pack assemblies are identified by a different P/N.

For the reasons described above, this [EASA] AD retains the requirements of DGAC France AD F-2004-072 (EASA approval 2004-5335) and EASA AD 2011-0160R2, which are superseded, and requires installation of modified escape slide pack assemblies.

Appendix 1 of this [EASA] AD provides a comprehensive list of escape slide pack assemblies P/N that, at the issue date of the [EASA] AD, are not approved for further installation on any aeroplane.

You may examine the MCAI in the AD docket on the Internet at http://www.regulations.gov by searching for and locating Docket No. FAA 2017-0556.

Comments

We gave the public the opportunity to participate in developing this AD. The following presents the comments received on the NPRM and the FAA's response to each comment. The Air Line Pilots Association, International supported the NPRM.

Request To Extend the Compliance Time

United Airlines (UAL) requested that the compliance time in the proposed AD be extended from 36 months to 42 months. UAL stated that this will allow sufficient time to purge the stock and order parts from the supplier.

We disagree with the commenter's request. UAL has not provided suitable rationale to justify that extending the compliance time will ensure the safety of the affected fleet. In developing the appropriate compliance time for this action, we considered the safety implications, parts availability, and normal maintenance schedules for timely accomplishment of this modification. We have determined that 36 months will ensure an acceptable level of safety and provide sufficient time to order parts and accomplish the required modification. We have not changed this AD in this regard.

Request To Allow Interchangeable Parts

Delta Airlines (DAL) requested an allowance for interchangeable parts. DAL stated that paragraph (l) of the proposed AD specifies the replacement of “old” escape slide packs with corresponding “new” escape slide packs. DAL stated that paragraph (l) of the proposed AD does not allow the replacement of an “old” slide pack with an alternative “new” slide pack that might be fully interchangeable with the one that is mandated. DAL commented that, for example, an airplane with a part number (P/N) D30664-505 slide pack already installed must be replaced with a P/N D30664-705 slide pack. DAL stated that, however, P/N D30664-705 and P/N D30664-709 have incorporated Zodiac Aero Evacuation Systems Service Bulletin S.B. A320 004-25-96, Revision 1, dated September 18, 2015, and are fully interchangeable on DAL airplanes. DAL also commented that paragraph (l) of the proposed AD limits operational flexibility for accomplishing the intent of the NPRM.

We disagree with the commenter's request because Airbus has defined the specific configuration of the pack assemblies that mitigate the risk addressed in this AD. We are not aware of any data that substantiates the interchanging of those parts referenced in table 1 to paragraphs (l), (m)(2), (n)(2), and (o)(1) of this AD, except as provided in paragraph (o)(3) of this AD. Operators may request approval of an alternative method of compliance (AMOC) supported by appropriate substantiating data, under the provisions of paragraph (q)(1) of this AD. We have not changed this AD in this regard.

Request for Means of Compliance

UAL requested that operators be allowed to demonstrate compliance by means of a technical records review for the accomplishment of the related Zodiac Aero Evacuation Systems service information.

We contacted UAL to clarify their request. Based on UAL's clarification, we concluded that UAL is requesting the accomplishment of a records review as an acceptable method for demonstrating compliance to the modification of spare parts specified in paragraph (m)(2) of this AD. We agree with UAL that a records review can be used to verify the modification specified in paragraph (m)(2) of this AD has been done as specified in the Zodiac Aero Evacuation Systems service information identified in that paragraph. We have not changed this AD in this regard.

Request To Use the Latest Service Information

UAL stated that it would like to highlight that Zodiac Aero Evacuation Systems Service Bulletin S.B. A320 004-25-96, Revision 1, dated September 18, 2015; and Zodiac Aero Evacuation Systems Service Bulletin S.B. A320 004-25-97, Revision 1, dated September 18, 2015, are now at Revision 2. UAL also commented that Airbus Service Bulletin A320-25-1B82, Revision 01, dated December 10, 2015, is at Revision 2.

We infer that UAL is requesting that we use the latest service information in this AD. We agree with the commenter's request and have revised paragraphs (m)(1)(ii) and (m)(2) of this AD accordingly. We have also revised paragraph (p) of this AD to give credit for previous actions accomplished before the effective date of this AD using earlier versions of the service information.

Conclusion

We reviewed the available data, including the comments received, and determined that air safety and the public interest require adopting this AD with the changes described previously and minor editorial changes. We have determined that these changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued the following service information, which describes procedures for replacing certain escape slide pack assemblies. These documents are distinct since they apply to different airplane models in different configurations.

• Service Bulletin A320-25-1B81, Revision 01, dated December 10, 2015.

• Service Bulletin A320-25-1B82, Revision 02, dated July 6, 2017.

• Service Bulletin A320-25-1B83, Revision 01, dated December 10, 2015.

• Service Bulletin A320-25-1B84, Revision 01, dated December 10, 2015.

Zodiac Aerospace has issued Zodiac Aero Evacuation Systems Service Bulletin S.B. A320 004-25-96, Revision 2, dated April 29, 2016; and Zodiac Aero Evacuation Systems Service Bulletin S.B. A320 004-25-97, Revision 2, dated September 1, 2016. This service information describes procedures for modification of the escape slide pack. These documents are distinct since they apply to different airplane models in different configurations.

This service information is reasonably available because the interested parties have access to it through their normal course of business or by the means identified in the ADDRESSES section.

Costs of Compliance

We estimate that this AD affects 959 airplanes of U.S. registry.

We estimate the following costs to comply with this AD:

Estimated Costs
Action | Labor cost | Parts cost | Cost per product | Cost on U.S. operators
Modification and installation (retained actions from AD 2012-23-10) | 19 work-hours × $85 per hour = $1,615 | $341 | $1,956 | $1,875,804
Replacement and modification (new action) | 6 work-hours × $85 per hour = $510 | 0 | 510 | 489,090

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-23-10, Amendment 39-17266 (77 FR 70369, November 26, 2010), and adding the following new AD:

2017-25-05 Airbus: Amendment 39-19119; Docket No. FAA 2017-0556; Product Identifier 2016-NM-098-AD.

(a) Effective Date

This AD is effective January 16, 2018.

(b) Affected ADs

This AD replaces AD 2012-23-10, Amendment 39-17266 (77 FR 70369, November 26, 2012) (“AD 2012-23-10”).

(c) Applicability

This AD applies to all Airbus Model A318-111, -112, -121, and -122 airplanes; Model A319-111, -112, -113, -114, -115, -131, -132, and -133 airplanes; Model A320-211, -212, -214, -231, -232, and -233 airplanes; and Model A321-111, -112, -131, -211, -212, -213, -231, and -232 airplanes; certificated in any category; all manufacturer serial numbers.

(d) Subject

Air Transport Association (ATA) of America Code 25, Equipment/Furnishings.

(e) Reason

This AD was prompted by reports of the escape raft inflation system not deploying when activated due to the rotation of the cable guide in a direction which resulted in jamming of the inflation control cable. We are issuing this AD to prevent non-deployment of the escape slide raft, which could result in delayed evacuation from the airplane during an emergency and consequent injury to passengers.

(f) Compliance

Comply with this AD within the compliance times specified, unless already done.

(g) Retained: Modification, With No Changes

This paragraph restates the requirements of paragraph (g) of AD 2012-23-10, with no changes. Except as provided by paragraph (i) of this AD, within 36 months after December 31, 2012 (the effective date of AD 2012-23-10): Modify the escape slide rafts that have a part number (P/N) specified in figure 1 to paragraphs (g), (j)(1), and (j)(2) of this AD, in accordance with the Accomplishment Instructions of Airbus Service Bulletin A320-25-1723, dated December 17, 2010 (for Model A319, A320, and A321 series airplanes); or Airbus Service Bulletin A320-25-1724, dated December 17, 2010 (for Model A318 series airplanes).

Figure 1 to Paragraphs (g), (j)(1), and (j)(2) of This AD—Escape Slide Rafts
Air Cruisers and Aerazur Escape Slide Rafts Part No. if Fitted With a Reservoir and Valve Assembly P/N D18309-105 or P/N D18309-205
D30664-105 | D30665-105
D30664-107 | D30665-107
D30664-109 | D30665-109
D30664-305 | D30665-305
D30664-307 | D30665-307
D30664-309 | D30665-309
D30664-311 | D30665-311

(h) Retained: Replacement in Accordance With Air Cruisers Service Bulletin, With No Changes

This paragraph restates the requirements of paragraph (h) of AD 2012-23-10, with no changes. Replacement of all affected escape slide rafts on any affected airplane with slide rafts that have been modified in accordance with the Accomplishment Instructions of Air Cruisers Service Bulletin S.B. A320 004-25-85, Revision 2, dated January 3, 2012, is acceptable for compliance with the requirements of paragraph (g) of this AD, provided that prior to or concurrently with accomplishing the modification, the installation of the cable guide assembly is done in accordance with the Accomplishment Instructions of Air Cruisers Service Bulletin S.B. A320 004-25-56, dated November 12, 1999.

(i) Retained: Airplanes Not Affected by Paragraph (g) of This AD, With No Changes

This paragraph restates the requirements of paragraph (i) of AD 2012-23-10, with no changes. Before the effective date of this AD: Airplanes on which Airbus Modification 151459 or Modification 151502 has been embodied in production, and on which no escape slide raft replacements have been made since first flight, are not affected by the requirement specified in paragraph (g) of this AD.

(j) Retained: Parts Installation Limitations, With No Changes

This paragraph restates the requirements of paragraph (j) of AD 2012-23-10, with no changes.

(1) For airplanes other than those identified in paragraph (i) of this AD: After accomplishment of the modification required by paragraph (g) of this AD or after accomplishment of the alternative modification specified in paragraph (h) of this AD, no person may install, on any airplane, an escape slide raft specified in figure 1 to paragraphs (g), (j)(1), and (j)(2) of this AD, unless it has been modified in accordance with the Accomplishment Instructions of Airbus Service Bulletin A320-25-1723, dated December 17, 2010 (for Model A319, A320, and A321 series airplanes); Airbus Service Bulletin A320-25-1724, dated December 17, 2010 (for Model A318 series airplanes); or Air Cruisers Service Bulletin S.B. A320 004-25-85, Revision 2, dated January 3, 2012 (for Model A318, A319, A320, and A321 series airplanes), including the installation of the cable guide assembly in accordance with the Accomplishment Instructions of Air Cruisers Service Bulletin S.B. A320 004-25-56, dated November 12, 1999.

(2) For airplanes identified in paragraph (i) of this AD: As of December 31, 2012 (the effective date of AD 2012-23-10), no person may install, on any airplane, an escape slide raft specified in figure 1 to paragraphs (g), (j)(1), and (j)(2) of this AD, unless it has been modified in accordance with the Accomplishment Instructions of Airbus Service Bulletin A320-25-1723, dated December 17, 2010 (for Model A319, A320, and A321 series airplanes); Airbus Service Bulletin A320-25-1724, dated December 17, 2010 (for Model A318 series airplanes); or Air Cruisers Service Bulletin S.B. A320 004-25-85, Revision 2, dated January 3, 2012 (for Model A318, A319, A320, and A321 series airplanes), including the installation of the cable guide assembly in accordance with the Accomplishment Instructions of Air Cruisers Service Bulletin S.B. A320 004-25-56, dated November 12, 1999.

(k) Retained: Credit for Previous Actions, With No Changes

This paragraph restates the requirements of paragraph (k) of AD 2012-23-10, with no changes. This paragraph provides credit for the actions required by paragraphs (h) and (j) of this AD, if those actions were performed before December 31, 2012 (the effective date of AD 2012-23-10), using Air Cruisers Service Bulletin S.B. A320 004-25-85, dated November 30, 2010; or Air Cruisers Service Bulletin S.B. A320 004-25-85, Revision 1, dated September 30, 2011; which are not incorporated by reference in this AD.

(l) New: Replacement

Within 36 months after the effective date of this AD, replace each escape slide pack assembly having a part number identified as “old” in table 1 to paragraphs (l), (m)(2), (n)(2), and (o)(1) of this AD, with a new escape slide pack assembly having the corresponding part number identified as “new” in table 1 to paragraphs (l), (m)(2), (n)(2), and (o)(1) of this AD, using a method approved by the Manager, International Section, Transport Standards Branch, FAA; or the European Aviation Safety Agency (EASA); or Airbus's EASA Design Organization Approval (DOA).

Table 1 to Paragraphs (l), (m)(2), (n)(2), and (o)(1) of This AD—Air Cruisers and Aerazur Escape Slide Pack Assemblies Affected by Paragraph (1) of This AD
Escape slide pack assembly part No.—Old | Escape slide pack assembly part No.—New
D30664-405 | D30664-605
D30664-407 | D30664-607
D30664-409 | D30664-609
D30664-505 | D30664-705
D30664-507 | D30664-707
D30664-509 | D30664-709
D30664-511 | D30664-711
D30665-405 | D30665-605
D30665-407 | D30665-607
D30665-409 | D30665-609
D30665-505 | D30665-705
D30665-507 | D30665-707
D30665-509 | D30665-709
D30665-511 | D30665-711
D31516-119 | D31516-619
D31516-121 | D31516-621
D31516-123 | D31516-623
D31516-125 | D31516-625
D31516-315 | D31516-615
D31516-317 | D31516-617
D31516-415 | D31516-715
D31516-417 | D31516-717
D31516-519 | D31516-719
D31516-521 | D31516-721
D31516-523 | D31516-723
D31516-525 | D31516-725
D31517-119 | D31517-619
D31517-121 | D31517-621
D31517-123 | D31517-623
D31517-125 | D31517-625
D31517-315 | D31517-615
D31517-317 | D31517-617
D31517-415 | D31517-715
D31517-417 | D31517-717
D31517-519 | D31517-719
D31517-521 | D31517-721
D31517-523 | D31517-723
D31517-525 | D31517-725

(m) New: Modification

(1) Modification of an airplane in accordance with the Accomplishment Instructions of the applicable service information specified in paragraphs (m)(1)(i) through (m)(1)(iv) of this AD, as applicable to the airplane model and escape slide pack assembly part number, is an acceptable method of compliance with the requirements of paragraph (l) of this AD for that airplane.

(i) Airbus Service Bulletin A320-25-1B81, Revision 01, dated December 10, 2015 (for airplanes equipped with slide/rafts having P/Ns D30664-405, D30664-407, D30664-409, D30664-505, D30664-507, D30664-509, D30664-511, D30665-405, D30665-407, D30665-409, D30665-505, D30665-507, D30665-509, and D30665-511).

(ii) Airbus Service Bulletin A320-25-1B82, Revision 02, dated July 6, 2017 (for airplanes equipped with slides having P/Ns D31516-121, D31516-125, D31516-317, D31516-417, D31516-525, D31517-121, D31517-125, D31517-317, D31517-417, and D31517-525).

(iii) Airbus Service Bulletin A320-25-1B83, Revision 01, dated December 10, 2015 (for airplanes equipped with slides with re-entry line P/Ns D31516-119, D31516-123, D31516-519, D31516-523, D31516-315, D31516-415, D31517-119, D31517-123, D31517-519, D31517-523, D31517-315, and D31517-415).

(iv) Airbus Service Bulletin A320-25-1B84, Revision 01, dated December 10, 2015 (for airplanes equipped with slides with Dual Fastener P/N D31516-521 and D31517-521).

(2) An escape slide pack assembly not installed on an airplane and having a part number identified as “old” in table 1 to paragraphs (l), (m)(2), (n)(2), and (o)(1) of this AD may be modified to the corresponding part number identified as “new” in table 1 to paragraphs (l), (m)(2), (n)(2), and (o)(1) of this AD, in accordance with Zodiac Aero Evacuation Systems Service Bulletin S.B. A320 004-25-96, Revision 2, dated April 29, 2016; and Zodiac Aero Evacuations Systems Service Bulletin S.B. A320 004-25-97, Revision 2, dated September 1, 2016; as applicable.

(n) New: Airplanes Not Affected

(1) An airplane on which Airbus Modification 151459 or Modification 151502 has been embodied in production is not affected by the requirements of paragraph (g) of this AD, provided it is determined that no escape slide pack assembly having a part number specified in figure 2 to paragraphs (n) and (o)(2) of this AD, figure 3 to paragraphs (n) and (o)(2) of this AD, or figure 4 to paragraphs (n) and (o)(2) of this AD, is installed on that airplane as of the effective date of this AD.

(2) An airplane on which Airbus Modification 156766, Modification 156767, Modification 156768, Modification 156769, or Modification 156770 has been embodied in production is not affected by the requirements of paragraphs (g) and (l) of this AD, provided that it is determined that no escape slide raft having a part number identified in figure 2 to paragraphs (n) and (o)(2) of this AD, figure 3 to paragraphs (n) and (o)(2) of this AD, or figure 4 to paragraphs (n) and (o)(2) of this AD, or having a part number identified as “old” in table 1 to paragraphs (l), (m)(2), (n)(2), and (o)(1) of this AD, is installed on that airplane as of the effective date of this AD.

Figure 2 to Paragraphs (n) and (o)(2) of This AD—Air Cruisers and Aerazur Escape Slide Pack Assemblies Affected by Paragraph (1) of This AD
Part No.
D31516-111 | D31517-111
D31516-113 | D31517-113
D31516-115 | D31517-115
D31516-117 | D31517-117
D31516-311 | D31517-311
D31516-313 | D31517-313

Figure 3 to Paragraphs (n) and (o)(2) of This AD—Air Cruisers and Aerazur Escape Slide Pack Assemblies Affected by Paragraphs (g) and (h) of This AD
[If fitted with a Reservoir and Valve Assembly P/N D18309-105 or P/N D18309-205]
Part No.
D30664-105 | D30665-105
D30664-107 | D30665-107
D30664-109 | D30665-109
D30664-305 | D30665-305
D30664-307 | D30665-307
D30664-309 | D30665-309
D30664-311 | D30665-311

Figure 4 to Paragraphs (n) and (o)(2) of This AD—Air Cruisers and Aerazur Escape Slide Pack Assemblies Not Approved for Further Installation on Any Airplane
Part No.
D30664-101 | D30665-101
D30664-103 | D30665-103
D31516-101 | D31517-101
D31516-103 | D31517-103
D31516-105 | D31517-105
D31516-107 | D31517-107
D31516-109 | D31517-109

(o) New: Parts Installation Provisions

(1) As of the effective date of this AD, do not install on any airplane an escape slide pack assembly having a part number identified as “old” in table 1 to paragraphs (l), (m)(2), (n)(2), and (o)(1) of this AD.

(2) As of the effective date of this AD, do not install on any airplane an escape slide pack assembly having a part number identified in figure 2 to paragraphs (n) and (o)(2) of this AD, figure 3 to paragraphs (n) and (o)(2) of this AD, and figure 4 to paragraphs (n) and (o)(2) of this AD.

(3) Installation of an escape slide pack assembly having a part number approved after March 18, 2016 (the effective date of EASA AD 2016-0043), constitutes compliance with the requirements of paragraph (l) of this AD, provided the conditions as specified in paragraphs (o)(3)(i) and (o)(3)(ii) of this AD are met.

(i) The part number must be approved by the Manager, International Section, Transport Standards Branch, FAA; or the EASA; or Airbus's EASA DOA; and

(ii) The installation must be accomplished in accordance with airplane modification instructions approved by the Manager, International Section, Transport Standards Branch, FAA; or the EASA; or Airbus's EASA DOA.

(p) Credit for Previous Actions

(1) This paragraph provides credit for actions required by paragraph (m)(1) of this AD, if those actions were performed before the effective date of this AD using the applicable service information in paragraphs (p)(1)(i) through (p)(1)(v) of this AD.

(i) Airbus Service Bulletin A320-25-1B81, dated August 13, 2015.

(ii) Airbus Service Bulletin A320-25-1B82, dated August 13, 2015.

(iii) Airbus Service Bulletin A320-25-1B82, Revision 01, dated December 10, 2015.

(iv) Airbus Service Bulletin A320-25-1B83, dated July 31, 2015.

(v) Airbus Service Bulletin A320-25-1B84, dated July 31, 2015.

(2) This paragraph provides credit for actions required by paragraph (m)(2) of this AD, if those actions were performed before the effective date of this AD using the applicable service information in paragraphs (p)(2)(i) through (p)(2)(iv) of this AD.

(i) Zodiac Aero Evacuation Systems Service Bulletin S.B. A320 004-25-96, dated July 9, 2015;

(ii) Zodiac Aero Evacuation Systems Service Bulletin S.B. A320 004-25-96, Revision 1, dated September 18, 2015.

(iii) Zodiac Aero Evacuation Systems Service Bulletin S.B. A320 004-25-97, dated July 9, 2015.

(iv) Zodiac Aero Evacuation Systems Service Bulletin S.B. A320 004-25-97, Revision 1, dated September 18, 2015.

(q) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (r)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(r) Related Information

(1) Refer to Mandatory Continuing Airworthiness Information (MCAI) EASA AD 2016-0043, dated March 4, 2016, for related information. This MCAI may be found in the AD docket on the Internet at http://www.regulations.gov by searching for and locating Docket No. FAA 2017-0556.

(2) For more information about this AD, contact Sanjay Ralhan, Aerospace Engineer, International Section, Transport Standards Branch, FAA, 1601 Lind Avenue SW., Renton, WA 98057-3356; telephone 425-227-1405; fax 425- 227-1149.

(3) Service information identified in this AD that is not incorporated by reference is available at the addresses specified in paragraphs (s)(5) and (s)(6) of this AD.

(s) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on January 16, 2018.

(i) Airbus Service Bulletin A320-25-1B81, Revision 01, dated December 10, 2015.

(ii) Airbus Service Bulletin A320-25-1B82, Revision 02, dated July 6, 2017.

(iii) Airbus Service Bulletin A320-25-1B83, Revision 01, dated December 10, 2015.

(iv) Airbus Service Bulletin A320-25-1B84, Revision 01, dated December 10, 2015.

(v) Zodiac Aero Evacuation Systems Service Bulletin S.B. A320 004-25-96, Revision 2, dated April 29, 2016.

(vi) Zodiac Aero Evacuation Systems Service Bulletin S.B. A320 004-25-97, Revision 2, dated September 1, 2016.

(4) The following service information was approved for IBR on December 31, 2012 (77 FR 70369, November 26, 2012).

(i) Airbus Service Bulletin A320-25-1723, dated December 17, 2010.

(ii) Airbus Service Bulletin A320-25-1724, dated December 17, 2010.

(iii) Air Cruisers Service Bulletin S.B. A320 004-25-85, Revision 2, dated January 3, 2012.

(iv) Air Cruisers Service Bulletin S.B. A320 004-25-56, dated November 12, 1999.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. For Zodiac Aerospace service information identified in this AD, contact Air Cruisers, Cage Code 70167, 1747 State Route 34, Wall Township, NJ 07727-3935; telephone: (732) 681-3527; Internet: http://www.zodiacaerospace.com.

(6) You may view this service information at the FAA, Transport Standards Branch, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on November 29, 2017.
Jeffrey E. Duven,
Director, System Oversight Division, Aircraft Certification Service.

[FR Doc. 2017-26363 Filed 12-8-17; 8:45 am]

BILLING CODE 4910-13-P